DEPARTMENT OF COMMERCE

International Trade Administration

[A-570-878]

Notice of Antidumping Duty Order: Saccharin from the People's Republic of China

AGENCY: Import Administration, International Trade Administration, Department of Commerce.

EFFECTIVE DATE: July 9, 2003.

FOR FURTHER INFORMATION CONTACT: Mark Hoadley (Suzhou Fine Chemicals Group Co., Ltd.) at (202) 482-3148, Javier Barrientos or Jessica Burdick (Shanghai Fortune Chemical Co., Ltd.) at (202) 482-2243 and (202) 482-0666, or Sally C. Gannon at (202) 482-0162; Office of AD/CVD Enforcement VII, Import Administration, International Trade Administration, U.S. Department of Commerce, 14th Street and Constitution Avenue, N.W., Washington D.C. 20230.

SUPPLEMENTARY INFORMATION:

Background

The final determination in this investigation was published on May 20, 2003. See Notice of Final Determination of Sales at Less Than Fair Value: Saccharin From the People's Republic of China, 68 FR 27530 (May 20, 2003) (Final Determination).

On June 6, 2003, the Department of Commerce (the Department) issued its amended final determination in the antidumping duty investigation of saccharin from the People's Republic of China (PRC). See Notice of Amended Final Determination of Sales at Less Than Fair Value: Saccharin from the People's Republic of China, 68 FR 35383 (June 13, 2003) (Amended Final Determination). In the Amended Final Determination, the Department amended the PRC-wide rate to correct a clerical error in the rate as published in the Final Determination.

On June 25, 2003, the International Trade Commission (ITC) published (68 FR 37863) and notified the Department of its final determination pursuant to section 735(b)(1)(A)(i) of the Tariff Act of 1930, as amended (the Act), that an industry in the United States is materially injured by reason of less-than-fair-value imports of saccharin from the PRC.

Scope of the Order

The product covered by this order is saccharin. Saccharin is defined as a non-nutritive sweetener used in beverages and foods, personal care products such as toothpaste, table top sweeteners, and animal feeds. It is also used in metalworking fluids. There are four primary chemical compositions of saccharin: (1) sodium saccharin (American Chemical Society Chemical Abstract Service (CAS) Registry #128-44-9); (2) calcium saccharin (CAS Registry #6485-34-3); (3) acid (or insoluble) saccharin (CAS Registry #81-07-2); and (4) research grade saccharin. Most of the U.S.-produced and imported grades of saccharin from the PRC are sodium and calcium saccharin, which are available in granular, powder, spray-dried powder, and liquid forms.

The merchandise subject to this order is classifiable under subheading 2925.11.00 of the Harmonized Tariff Schedule of the United States (HTSUS) and includes all types of saccharin imported under this HTSUS subheading, including research and specialized grades. Although the HTSUS subheading is provided for convenience and Customs (as of March 1, 2003, renamed the U.S. Bureau of Customs and Border Protection (BCBP)) purposes, the Department's written description of the scope of this proceeding is dispositive.

Antidumping Duty Order

In accordance with section 736(a)(1) of the Act, the Department will direct the BCBP to assess, upon further advice by the Department, antidumping duties equal to the amount by which the normal value of the merchandise exceeds the export price of the merchandise for all relevant entries of saccharin entered, or withdrawn from warehouse, for consumption on or after December 27, 2002, the date on which the Department published its notice of preliminary determination in the Federal Register.

Effective June 25, 2003, the date of publication of the ITC's final affirmative injury determination, BCBP officers must require, at the same time as importers would normally deposit estimated duties on this merchandise, a cash deposit equal to the estimated weighted-average antidumping duty margins as noted below. See Section 736(a)(3) and Section 737(b) of the Act. The “PRC-wide” rate applies to all exporters of subject merchandise not specifically listed. The weighted-average dumping margins are as follows:

Manufacturer/Exporter | Margin (percent)
Suzhou Fine Chemical Group Co., Ltd. | 291.57
Shanghai Fortune Chemical Co., Ltd. | 249.39
Kaifeng Xinhua Fine Chemical Factory | 281.97
PRC-Wide | 329.94

Pursuant to section 736(a) of the Act, this notice constitutes the antidumping duty order with respect to saccharin from the PRC. Interested parties may contact the Department's Central Records Unit, Room B-099 of the main Commerce Building, for copies of an updated list of antidumping duty orders currently in effect.

This order is issued and published in accordance with section 736(a) of the Act and 19 CFR 351.211.

Dated: July 2, 2003.
Joseph A. Spetrini,
Acting Assistant Secretary for Grant Aldonas, Under Secretary.

[FR Doc. 03-17375 Filed 7-8-03; 8:45 am]

BILLING CODE 3510-DS-S